DEPARTMENT OF THE INTERIOR

Fish and Wildlife Service

[FWS-R8-ES-2013-N063; FXES11130800000-134-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before April 17, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-94965A

Applicant: Susan E. Townsend, Oakland, California

The applicant requests a permit to take (harass by survey, capture, handle, and release) the California tiger salamander (Santa Barbara County DPS and Sonoma County DPS) (Ambystoma californiense) in conjunction with surveys and population studies throughout the range of the species in California for the purpose of enhancing the species' survival.

Permit No. TE-221411

Applicant: Center For Natural Lands Management, Temecula, California

The applicant requests an amendment to take (harass by survey, capture, and release) the Pacific pocket mouse (Perognathus longimembris pacificus), take (harass by survey) the Quino checkerspot butterfly (Euphydryas editha quino), and take (survey, capture, handle, and release) the tidewater goby (Eucyclogobius newberryi) in conjunction with surveys, population monitoring, and land management activities throughout the range of each species in California for the purpose of enhancing the species' survival.

Permit No. TE-94977A

Applicant: Theodore D. Robertson, Walnut Creek, California

The applicant requests a permit to take (harass by survey, capture, handle, and release) the California tiger salamander (Santa Barbara County DPS and Sonoma County DPS) (Ambystoma californiense) in conjunction with surveys and population studies throughout the range of the species in California for the purpose of enhancing the species' survival.

Permit No. TE-110373

Applicant: Eric F. Kline, San Diego, California

The applicant requests a permit renewal to take (survey by pursuit) the Quino checkerspot butterfly (Euphydryas editha quino) in conjunction with surveys throughout the range of the species in California for the purpose of enhancing the species' survival.

Permit No. TE-94998A

Applicant: Leonard Y. Liu, Oakland, California

The applicant requests an amendment to a permit to take (harass by survey) the California clapper rail (Rallus longirostris obsoletus) in conjunction with survey activities throughout the range of the species in in Marin, Sonoma, Napa, Solano, Contra Costa, Alameda, Santa Clara, San Mateo, and San Francisco Counties, California, for the purpose of enhancing the species' survival.

Permit No. TE-198922

Applicant: LaTisha M. Sarre, Pleasant Grove, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-190302

Applicant: Mitch C. Siemens, Arroyo Grande, California

The applicant requests a permit renewal to take (harass by survey, capture, handle, and release) the California tiger salamander (Santa Barbara County DPS) (Ambystoma californiense) in conjunction with surveys and population studies throughout the range of the species in California for the purpose of enhancing the species' survival.

Permit No. TE-008031

Applicant: David W. Flietner, San Diego, California

The applicant requests a permit renewal to take (survey by pursuit) the Quino checkerspot butterfly (Euphydryas editha quino) in conjunction with surveys throughout the range of the species in California for the purpose of enhancing the species' survival.

Permit No. TE-221290

Applicant: Lee Ripma, San Diego, California

The applicant requests a permit renewal to take (survey by pursuit) the Quino checkerspot butterfly (Euphydryas editha quino) and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-96471A

Applicant: Mason Holmes, San Ramon, California

The applicant requests a permit to take (harass by survey, capture, handle, mark, take biological samples, and release) the California tiger salamander (Santa Barbara County DPS and Sonoma County DPS) (Ambystoma californiense) in conjunction with surveys and population studies throughout the range of the species in California for the purpose of enhancing the species' survival.

Permit No. TE-019949

Applicant: Vipul R. Joshi, San Diego, California

The applicant requests a permit renewal to take (survey by pursuit) the Quino checkerspot butterfly (Euphydryas editha quino) and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-021929

Applicant: California Native Plant Society, Mather, California

The applicant requests a permit renewal to take (capture, collect, and collect vouchers) the Conservancy fairy shrimp (Branchinecta conservatio), longhorn fairy shrimp (Branchinecta longiantenna), and vernal pool tadpole shrimp (Lepidurus packardi) in conjunction with educational tours and population monitoring in Sacramento County, California, for the purpose of enhancing the species' survival.

Permit No. TE-96483A

Applicant: Elizabeth A. Kempton, Glendora, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-012973

Applicant: ECORP Consulting, Inc., Rocklin, California

The applicant requests an amendment to an amendment to take (survey, capture, handle, measure, and release) the giant kangaroo rat (Dipodomys ingens) and take (survey, capture, handle, measure, mark, and release) the salt marsh harvest mouse (Reithrodontomys raviventris) in conjunction with survey, demographic study, and restoration activities throughout the range of each species in California for the purpose of enhancing the species' survival.

Permit No. TE-168927

Applicant: Drew C. Stokes, San Diego, California

The applicant requests a renewal to take (survey, capture, handle, mark, and take biological samples) and an amendment to take (pitfall trap) the arroyo toad (arroyo southwestern) (Anaxyrus californicus (Bufo microscaphus c.)) in conjunction with survey, population monitoring, and upland use study in San Diego County, California, for the purpose of enhancing the species' survival.

Permit No. TE-221295

Applicant: Angelica Mendoza, Fontana, California

The applicant requests a permit renewal to take (survey by pursuit) the Quino checkerspot butterfly (Euphydryas editha quino) in conjunction with surveys throughout the range of the species in California for the purpose of enhancing the species' survival.

Permit No. TE-185611

Applicant: CuriOdyssey Corporation, San Mateo, California

The applicant requests a permit to take (harass by capture, handle, transport, and captive rear) the California tiger salamander (Sonoma County DPS) (Ambystoma californiense) in conjunction with public outreach display and ecological research studies within the geographic jurisdiction of the Sacramento Fish and Wildlife Office, California, for the purpose of enhancing the species' survival.

Permit No. TE-200339

Applicant: Sarah M. Foster, Sacramento, California

The applicant requests a permit renewal to take (harass by survey, capture, handle, and release) the California tiger salamander (Santa Barbara County DPS and Sonoma County DPS) (Ambystoma californiense) in conjunction with surveys and population studies throughout the range of each species in California for the purpose of enhancing the species' survival.

Permit No. TE-97709A

Applicant: Kathryn L. Riley, San Diego, California

The applicant requests a permit to take (harass by survey) the southwestern willow flycatcher (Empidonax traillii extimus) in conjunction with survey activities throughout the range of the species in California for the purpose of enhancing the species' survival.

Permit No. TE-074955

Applicant: Susan R. Scatolini, San Diego, California

The applicant requests a permit renewal to take (capture, collect, and collect vouchers) the Riverside fairy shrimp (Streptocephalus woottoni) and San Diego fairy shrimp (Branchinecta sandiegonensis) in conjunction with survey activities throughout the range of each species in California for the purpose of enhancing the species' survival.

Permit No. TE-97717A

Applicant: Melissa Blundell, Encinitas, California

The applicant requests a permit to take (capture, handle, band, monitor nests, and release) the least Bell's vireo (Vireo bellii pusillus) in conjunction with surveys and population monitoring activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2013-06122 Filed 3-15-13; 8:45 am]

BILLING CODE 4310-55-P